DEPARTMENT OF DEFENSE

Department of the Navy

[Docket ID: USN-2025-HQ-0136]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by February 27, 2026.

ADDRESSES: Written comments and recommendations for the proposed information collection should be sent within 30 days of publication of this notice to www.reginfo.gov/public/do/PRAMain. CYP this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: USMC Family Care Program Forms; NAVMC Forms 1750/16 and 1750/17; OMB Control Number 0712-FMLY.

Type of Request: New.

NAVMC 1750/16—USMC Family Care Programs Youth Connection Request

Number of Respondents: 3,500.

Responses per Respondent: 1.

Annual Responses: 3,500.

Average Burden per Response: 30 minutes.

Annual Burden Hours: 1,750.

NAVMC 1750/17—USMC Family Care Programs Peer Leader Application

Number of Respondents: 1,500.

Responses per Respondent: 1.

Annual Responses: 1,500.

Average Burden per Response: 30 minutes.

Annual Burden Hours: 750.

Total

Number of Respondents: 5,000.

Annual Responses: 5,000.

Annual Burden Hours: 2,500.

Needs and Uses: The U.S. Marine Corps (USMC) Family Care Branch, which includes the Child and Youth Programs (CYP) and the School Liaison Program (SLP), requires this information collection to support military families as they relocate between installations. Due to the transient nature of military life, there is a critical need to ensure a “warm handoff” so that children's access to childcare, educational support, and youth services is not interrupted. This collection provides the formal mechanism for families to be connected with essential services at their new duty station. It is also needed to identify and select qualified youth for the Youth Connection (YC) peer leadership program, which fosters a supportive community for military children.

The information collected will be used as follows:

• NAVMC 1750/16, USMC Family Care Programs Youth Connection Request: This form is used to facilitate a “warm handoff” between installations. When a family is preparing to move, parents or guardians complete this form to provide information about their needs. Staff at the current installation use this information to contact the CYP and SLP at the family's new duty station, ensuring that the receiving programs are prepared to provide continuity of care and support upon their arrival.

• NAVMC 1750/17, USMC Family Care Programs Peer Leader Application: Youth, with parental consent and assistance, complete this form to apply for a peer leader position. Program staff use the information to review candidate qualifications and select individuals for the YC program, which is vital for supporting other military-connected youth.

By collecting this information, the USMC ensures that the quality of services is maintained for relocating families, which directly supports military family readiness and well-being.

Affected Public: Individuals or households.

Frequency: On occasion.

Respondent's Obligation: Voluntary.

DoD Clearance Officer: Mr. Reginald Lucas.

Dated: January 23, 2026.
Stephanie J. Bost,
Alternate OSD Federal Register Liaison Officer, Department of Defense.

[FR Doc. 2026-01635 Filed 1-27-26; 8:45 am]

BILLING CODE 6001-FR-P